SPECIAL INSPECTOR GENERAL FOR IRAQ RECONSTRUCTION

Final Listing of Audit and Other Reports Issued by SIGIR on Reconstruction Spending in Iraq

AGENCY: Special Inspector General for Iraq Reconstruction.

ACTION: Notice.

SUMMARY: Final listing of Audits and other reports issued by the Special Inspector General for Iraq Reconstruction (SIGIR) between 2004 and 2013.

DATES: September 24, 2013.

Authority: 5 U.S.C. app. 8G Note; Sec. 3001 of the Emergency Supplemental Appropriations Act for Defense and for the Reconstruction of Iraq and Afghanistan, 2004 Pub. L. 108-106, as amended by Pub. L. 108-375.

SUPPLEMENTARY INFORMATION: In November 2003, the U.S. Congress passed and the President signed into law the Emergency Supplemental Appropriations Act for Defense and for the Reconstruction of Iraq and Afghanistan, 2004 (Pub. L. 108-106). In addition to providing $18.4 billion for Iraq relief and reconstruction, the law also established the Inspector General of the Coalition Provisional Authority (CPA-IG) to oversee the handling and treatment of these funds. When the CPA-IG began work in early 2004, it was the only IG office within the U.S. government with oversight responsibilities encompassing several federal agencies.

The Ronald W. Reagan National Defense Authorization Act for Fiscal Year 2005 (Pub. L. 108-375), enacted October 28, 2004, redesignated the CPA-IG as the Special Inspector General for Iraq Reconstruction (SIGIR). Over time, the Congress expanded SIGIR's mission so that, by 2008, its mandate covered all reconstruction funds regardless of provenance. The enabling legislation required SIGIR to independently and objectively:

1. Conduct and supervise audits and investigations relating to the programs and operations funded with amounts appropriated or otherwise made available for the reconstruction of Iraq.

2. Provide advice and recommendations on policies designed to (A) promote economy, efficiency, and effectiveness in the administration of such programs and operations; and (B) prevent and detect waste, fraud, and abuse in such programs and operations.

3. Keep the Secretary of State and the Secretary of Defense fully and currently informed about problems and deficiencies relating to the administration of such programs and operations and the necessity for and progress for corrective action.

By the end of fiscal year 2012, SIGIR's oversight jurisdiction had grown to more than $60 billion in U.S. funds appropriated or otherwise made available for Iraq relief and reconstruction. These taxpayer dollars flowed to a wide spectrum of initiatives, ranging from training Iraq's army and police to building large electrical, oil, and water projects; from supporting democracy-building efforts to strengthening budget execution by provincial councils; and from funding rule-of-law reforms to ensuring that the Iraqi government sustains what the U.S. program provided.

During most of its almost decade-long lifespan, SIGIR maintained the largest on-the-ground presence of any U.S. auditing or investigative agency operating in Iraq, with nearly 50 personnel working in country during peak operations. Three operational directorates accomplished the oversight work: Audits, Inspections, and Investigations. As of September 2013, SIGIR had issued 220 audit reports, issued 170 project assessments, and initiated 639 criminal investigations. SIGIR also issued 37 Quarterly Reports as well as 9 Lessons Learned reports, 3 special reports, and 1 evaluation report.

SIGIR's audits made 487 recommendations, questioned about $641 million in costs, and identified an additional $974 million in funds to be put to better use—a combined potential financial benefit of $1.61 billion. As of September 2013, the actual savings to the government from renegotiated contracts, refunds, and operational savings resulting from SIGIR findings had reached nearly $645 million.

SIGIR's investigations led to 112 indictments, 90 convictions, and more than $192 million in court-ordered fines, forfeitures, restitution payments, and other monetary penalties. SIGIR's investigative work also led to 139 debarments and 106 suspensions of contractors and government personnel for fraud or other corrupt practices.

Reports Issued by SIGIR

Audit Reports

13-006 Government Agencies Cannot Fully Identify Projects Financed with Iraq Relief and Reconstruction Funds 3/6/2013

13-005 Lessons Learned on the Department of Defense's Commander's Emergency Response Program in Iraq 1/24/2013

13-004 Lessons Learned from U.S. Agencies' Management of Iraqi Funds for Relief and Reconstruction 1/22/2013

13-003 Development Fund for Iraq: U.S. Army Corps of Engineers Has Missing Receiving Reports and Open Task Orders 10/26/2012

13-002 Final Review of State Department's Management of Quick Response Funds in 2007 and 2008 10/26/2012

13-001 Sustaining the Progress Achieved by U.S. Rule of Law Programs in Iraq Remains Questionable 10/25/2012

12-020 Iraq Police Development Program: Lack of Iraqi Support and Security Problems Raise Questions about the Continued Viability of the Program 7/30/2012

12-019 Gaps in Business System Reviews of Contractors with Generally Less Than $100 Million Annually in Contracts in Iraq Increase U.S. Government Vulnerabilities to Fraud, Waste, and Abuse 7/30/2012

12-018 Status of Fiscal Years 2011-2012 Iraq Security Forces Fund 7/27/2012

12-017 Final Forensic Audit Report of Iraq Reconstruction Funds 7/13/2012

12-016 Interim Review of State Department's Progress in Implementing SIGIR Recommendations Addressing Quick Response Fund Management Controls 4/30/2012

12-013 Development Fund for Iraq: The Coalition Provisional Authority's Financial Controls for Electronic Fund Transfer Payments Diminished over Time 4/30/2012

12-015 Interim Report on Spend Plans for Fiscal Years 2011-2012 Iraq Security Forces Funds 4/26/2012

12-014 USACE Used or Deobligated Residual Funds on Terminated Contracts 4/18/2012

12-011 Few Contracts Terminated by the U.S. Army Corps of Engineers Resulted in Wasted Funds in Iraq 1/29/2012

12-009 The Department of State's Process To Provide Information on Reconstruction Projects to the Government of Iraq 1/29/2012

12-010 Status of Recommendations Made by the Special Inspector General for Iraq Reconstruction to the Department of Defense 1/27/2012

12-008 Development Fund for Iraq: Department of Defense Cannot Fully Account for the Funds It Used after the Coalition Provisional Authority Dissolved 1/27/2012

12-012 Development Funds for Iraq Returned to the Central Bank of Iraq 1/13/2012

12-007 Falluja Waste Water Treatment System: A Case Study in Wartime Contracting 10/30/2011

12-005 U.S. Central Command Contracting Command Had Few Contract Terminations That Resulted in Wasted Funds in Iraq 10/28/2011

12-002 Indirect Costs of Managing Private Security Contracts in Iraq 10/28/2011

12-004 Department of Defense Agencies Have Taken Action on Most Open Audit Recommendations 10/27/2011

12-003 Status of International Narcotics Control and Law Enforcement Funds Allocated for Iraq Reconstruction 10/27/2011

12-001 Development Fund for Iraq: The Coalition Provisional Authority Transferred Control over Most of the Remaining DFI Funds to the Central Bank of Iraq 10/26/2011

12-006 Iraqi Police Development Program: Opportunities for Improved Program Accountability and Budget Transparency 10/24/2011

11-022 Poor Government Oversight of Anham and Its Subcontracting Procedures Allowed Questionable Costs To Go Undetected 7/30/2011

11-023 Department of State Reports It Has Taken Action on Most Open Audit Recommendations, but Documentation Is Needed 7/29/2011

11-021 Management of the Iraq Commander's Emergency Response Program Needs To Be Improved (Interim Report) 7/29/2011

11-020 Commander's Emergency Response Program for 2011 Shows Increased Focus on Capacity Development 7/29/2011

11-019 Monitoring Responsibilities for Serious Incidents Involving Private Security Contractors Once U.S. Military Forces Leave Iraq Have Not Been Determined 7/29/2011

11-018 Control Weaknesses Remain in Oversight of Theater-wide Internal Security Services Contracts 7/28/2011

11-014 The Iraq Community Action Program: USAID's Agreement with CHF Met Goals, but Greater Oversight Is Needed 4/28/2011

11-016 USACE Is Meeting Customer Needs, but Documentation of Project Decisions Could Improve 4/27/2011

11-015 Gulf Region District Is Adjusting Its Aegis Security Contract Requirements for Changes in Reconstruction Activities in Iraq 4/27/2011

11-011 Quick Response Fund: Management Controls Have Improved, but Earlier Projects Need Attention 4/27/2011

11-017 USAID Is Responsive to SIGIR Recommendations 4/22/2011

11-013 Iraq Relief and Reconstruction Fund 2: Report on Apportionments, Expenditures, and Status at End of Fiscal Year 2010 4/22/2011

11-012 Commander's Emergency Response Program Obligations Are Uncertain 1/31/2011

11-008 Interim Report: Action Needed To Address Missing Iraq Transaction Data 1/28/2011

11-009 Iraqi Government Support for the Iraq International Academy 1/26/2011

11-007 Iraq Relief and Reconstruction Fund 1: Report on Apportionments, Expenditures, and Canceled Funds 1/25/2011

11-006 Forensic Audit Methodologies Used To Collect and Analyze Electronic Disbursement of Iraq Reconstruction Funds 10/28/2010

11-005 Iraq Reconstruction Funds: Forensic Audits Identifying Fraud, Waste, and Abuse—Interim Report #5 10/28/2010

11-004 Iraqi Security Forces: Special Operations Force Program Is Achieving Goals, but Iraqi Support Remains Critical to Success 10/25/2010

11-003 Iraqi Security Forces: Police Training Program Developed Sizeable Force, but Capabilities Are Unknown 10/25/2010

11-002 Guidance Needed for Use of Residual Iraqi Vested and Seized Asset Funds 10/15/2010

11-001 National Democratic Institute Grant's Security Costs and Impact Generally Supported, but Department of State Oversight Limited 10/13/2010

10-021 Plans To Preserve Iraq Reconstruction Program and Contract Records Need To Be Improved 7/30/2010

10-022 Improved Oversight Needed for State Department Grant to the International Republican Institute 7/29/2010

10-020 Development Fund for Iraq: Department of Defense Needs To Improve Financial and Management Controls 7/27/2010

10-019 Iraq Reconstruction Funds: Forensic Audits Identifying Fraud, Waste, and Abuse—Interim Report #4 7/26/2010

10-018 Most Iraq Economic Support Fund Appropriations Have Been Obligated and Liquidated 7/21/2010

10-015 Health Center Sustainment Contract Resulted in Some Repairs, but Iraqi Maintenance Capability Was Not Achieved 4/29/2010

10-017 Iraq Reconstruction Funds: Forensic Audits Identifying Fraud, Waste, and Abuse—Interim Report #3 4/28/2010

10-014 Process for Continuing Invoice Payment for the Development Fund for Iraq Needs Attention 4/27/2010

10-013 Commander's Emergency Response Program: Projects at Baghdad Airport Provided Some Benefits, but Waste and Management Problems Occurred 4/26/2010

10-016 Most Iraq Security Forces Fund Appropriations Have Been Obligated 4/23/2010

10-009 Interim Report on Projects To Develop the Iraqi Special Operations Forces 3/25/2010

10-011 Iraq Reconstruction Funds: Forensic Audits Identifying Fraud, Waste, and Abuse—Interim Report #2 1/28/2010

10-007 Wamar International Successfully Completed Contracts, but Unanticipated Problems Affected Costs and Schedules 1/28/2010

10-012 Department of State Grant Management: Limited Oversight of Costs and Impact of International Republican Institute and National Democratic Institute Democracy Grants 1/26/2010

10-010 Department of State Contract To Study the Iraq Reconstruction Management System 1/26/2010

10-008 Long-Standing Weaknesses in Department of State's Oversight of DynCorp Contract for Support of the Iraqi Police Training Program 1/25/2010

10-005 Iraq Security Forces Fund: Weak Contract Oversight Allowed Potential Overcharges by AECOM To Go Undetected 10/30/2009

10-006 Development Fund for Iraq: Policy Guidance Needed To Enhance Accountability of USAGE-Managed Funds 10/29/2009

10-004 Iraq Reconstruction Funds: Forensic Audits Identifying Fraud, Waste, and Abuse—Interim Report #1 10/28/2009

10-003 Iraq Commanders Emergency Response Program Generally Managed Well, but Project Documentation and Oversight Can Be Improved 10/27/2009

10-002 Data Provided to the Government of Iraq on U.S. Reconstruction Projects Lacked Clarity 10/26/2009

10-001 Iraqi Security Forces Facilities: Environmental Chemical Corporation Projects Achieved Results but With Significant Cost Increases and Schedule Delays 10/22/2009

09-027 Developing a Depot Maintenance Capability at Taji Hampered by Numerous Problems 7/30/2009

09-024 Tikrit Location Command Project Achieving Contract Goals by Using Sound Management Practices 7/30/2009

09-023 Investigation and Remediation Records Concerning Incidents of Weapons Discharges by Private Security Contractors Can Be Improved 7/28/2009

09-022 Field Commanders See Improvements in Controlling and Coordinating Private Security Contractor Missions in Iraq 7/28/2009

09-026 Commanders Emergency Response Program: Hotel Construction Successfully Completed, but Project Management Issues Remain 7/26/2009

09-025 Commander's Emergency Response Program: Muhalla 312 Electrical Distribution Project Largely Successful 7/26/2009

09-021 and AUD/IQO-09-16 Joint Audit of Blackwater Contract and Task Orders for Worldwide Personal Protective Services in Iraq (with DoS OIG) 6/1/2009

09-019 Opportunities To Improve Processes for Reporting, Investigating, and Remediating Serious Incidents Involving Private Security Contractors in Iraq 4/30/2009

09-018 Information on Government of Iraq Contributions to Reconstruction Costs 4/29/2009

09-015 Construction of Primary Healthcare Centers Reported Essentially Complete, but Operational Issues Remain 4/29/2009

09-020 Provincial Reconstruction Teams: Developing a Cost-Tracking Process Will Enhance Decision-making 4/28/2009

09-016 Asset-Transfer Process for Iraq Reconstruction Projects Lacks Unity and Accountability 4/26/2009

09-014 Security Forces Logistics Contract Experienced Certain Cost, Outcome, and Oversight Problems 4/26/2009

09-017 Need To Enhance Oversight of Theater-wide Internal Security Services Contracts 4/24/2009

09-009 Full Impact of Department of Defense Program To Restart State-Owned Enterprises Difficult To Estimate 1/30/2009

09-011 Opportunities To Improve Management of the Quick Response Fund 1/29/2009

09-013 Provincial Reconstruction Teams' Performance Measurement Process Has Improved 1/28/2009

09-012 The U.S. Has Reduced Its Funding for the Iraqi Security Forces, but Continued Support Will Likely Be Necessary 1/26/2009

09-010 Oversight of Aegis's Performance on Security Services Contracts in Iraq With the Department of Defense 1/14/2009

09-008 Cost, Outcome, and Oversight of Iraq Oil Reconstruction Contract With Kellogg Brown & Root Services, Inc. 1/13/2009

09-005 Agencies Need Improved Financial Data Reporting for Private Security Contractors 10/30/2008

09-007 Improvements Needed in Reporting Status of Reconstruction Projects to Chief of Mission 10/29/2008

09-006 Status of Department of State Economic Support Fund Interagency Agreements With the U.S. Army Corps of Engineers in Iraq 10/28/2008

09-004 Iraq Reconstruction Project Terminations Represent a Range of Actions 10/27/2008

09-001 Opportunities To Enhance U.S. Democracy-Building Strategy for Iraq 10/22/2008

09-003 Cost, Outcome, and Oversight of Local Governance Program Contracts With Research Triangle Institute 10/21/2008

09-002 Challenges in Obtaining Reliable and Useful Data on Iraqi Security Forces Continue 10/21/2008

08-024 Information on a Special Department of Defense Program To Foster Economic Recovery in Iraq 7/29/2008

08-023 Anticorruption Efforts in Iraq: U.S. and Iraq Take Actions, but Much Remains To Be Done 7/29/2008

08-019 Outcome, Cost, and Oversight of the Security and Justice Contract With Parsons Delaware, Inc. 7/28/2008

08-020 Key Recurring Management Issues Identified in Audits of Iraq Reconstruction Efforts 7/27/2008

08-022 Government of Iraq Increasingly Funding Iraqi Security Forces Infrastructure Development, but Substantial U.S. Support Remains 7/26/2008

08-021 Comprehensive Plan Needed To Guide the Future of the Iraq Reconstruction Management System 7/25/2008

08-018 Outcome, Cost, and Oversight of Water Sector Reconstruction Contract With FluorAMEC, LLC 7/15/2008

08-011 Outcome, Cost, and Oversight of Electricity-Sector Reconstruction Contract With Perini Corporation 4/29/2008

08-017 Transferring Reconstruction Projects to the Government of Iraq: Some Progress Made but Further Improvements Needed To Avoid Waste 4/28/2008

08-013 Interim Report on Iraq Reconstruction Contract Terminations 4/28/2008

08-015 Interim Analysis of Iraqi Security Force Information Provided by the Department of Defense Report, Measuring Stability and Security in Iraq 4/25/2008

08-016 U.S. Anticorruption Efforts in Iraq: Progress Made in Implementing Revised Management Plan 4/24/2008

08-014 Progress on Recommended Improvements to Contract Administration for the Iraqi Police Training Program 4/22/2008

08-012 Attestation to Development Fund for Iraq Cash in the Possession of the Joint Area Support Group-Central 3/13/2008

08-005 Differences in Services and Fees for Management and Administration of Iraq Reconstruction Contracts 1/29/2008

08-010 Outcome, Cost, and Oversight of Iraq Reconstruction Contract W914NS-04-D-0006 1/28/2008

08-007 Efforts To Implement a Financial-Management Information System in Iraq 1/25/2008

08-006 Commander's Emergency Response Program in Iraq Funds Many Large-Scale Projects 1/25/2008

08-009 Appropriate Award-Fee Conversion Scales Can Enhance Incentive for Contractor Performance 1/24/2008

08-008 U.S. Anticorruption Efforts in Iraq: Sustained Management Commitment Is Key to Success 1/24/2008

08-004 Outcome, Cost, and Oversight of Reconstruction of Taji Military Base and Baghdad Recruiting Center 1/15/2008

08-002 Logistics Civil Augmentation Program Task Orders 130 and 151: Program Management, Reimbursement, and Transition 10/30/2007

08-003 Review of the Use of Contractors in Managing Iraq Relief and Reconstruction Projects 10/29/2007

08-001 Interim Report on Efforts and Further Actions Needed To Implement a Financial Management Information System in Iraq 10/24/2007

07-010 Agency Management of the Closeout Process for Iraq Relief and Reconstruction Fund Contracts 10/24/2007

07-016 Interim Review of DynCorp International, LLC, Spending Under Its Contract for the Iraqi Police Training Program 10/23/2007

07-011 Controls Over Unliquidated Obligations in the Iraq Relief and Reconstruction Fund 10/23/2007

07-015 Review of the Effectiveness of the Provincial Reconstruction Team Program in Iraq 10/18/2007

07-005 Fact Sheet on Sources and Uses of U.S. Funding Provided in Fiscal Year 2006 for Iraq Relief and Reconstruction 7/27/2007

07-008 Fact Sheet on the Roles and Responsibilities of U.S. Government Organizations Conducting IRRF-Funded Reconstruction Activities 7/26/2007

07-003 Cost-To-Complete Reporting for Iraq Reconstruction Projects 7/26/2007

07-014 Status of the Provincial Reconstruction Team Program Expansion in Iraq 7/25/2007

07-009 Review of Bechtel's Spending under Its Phase II Iraq Reconstruction Contract 7/24/2007

07-007 Status of U.S. Government Anticorruption Efforts in Iraq 7/24/2007

07-001 Logistics Civil Augmentation Program Task Order 130: Requirements Validation, Government Oversight, and Contractor Performance 6/22/2007

07-013 Sustainment of the Advanced First Responder Network (Restricted) 4/27/2007

07-012 Review of Iraq Relief and Reconstruction Fund Unmatched Disbursements at the Department of State 4/26/2007

07-006 Management of the Commander's Emergency Response Program in Iraq for Fiscal Year 2006 4/26/2007

07-002 Status of the Advanced First Responder Network 4/25/2007

06-045 Status of Ministerial Capacity Development in Iraq 1/30/2007

06-044 Fact Sheet on Major U.S. Contractors' Security Costs Related to Iraq Relief and Reconstruction Fund Contracting Activities 1/30/2007

06-043 Review of Iraq Relief and Reconstruction Fund Unmatched Disbursements 1/30/2007

06-042 Fact Sheet on Major U.S. Contractors' Security Costs Related to Iraq Relief and Reconstruction Fund Contracting Activities (Restricted-Limited Distribution) 1/30/2007

06-040 Improper Obligations Using the Iraq Relief and Reconstruction Fund (IRRF 2) 1/30/2007

06-030 Status of Medical Equipment and Other Non-Construction Items Purchased for Primary Healthcare Centers 1/30/2007

06-029 Review of DynCorp International, LLC, Contract Number S-LMAQM-04-C-0030, Task Order 0338, for the Iraqi Police Training Program Support 1/30/2007

06-039 Review of USAID/Bechtel National, Inc., Property Management Controls for Contract SPU-C-00-04-00001-00 1/29/2007

06-036 Follow-Up on SIGIR Recommendations Concerning the Development Fund for Iraq (DFI) 1/29/2007

06-034 Status of the Provincial Reconstruction Team Program in Iraq 10/29/2006

06-033 Iraqi Security Forces: Weapons Provided by the U.S. Department of Defense Using the Iraq Relief and Reconstruction Fund 10/28/2006

06-032 Iraqi Security Forces: Review of Plans To Implement Logistics Capabilities 10/28/2006

06-031 Management of the Iraqi Interim Government Fund 10/27/2006

06-035 Interim Audit Report on Inappropriate Use of Proprietary Data Markings by the Logistics Civil Augmentation Program (LOGCAP) Contractor 10/26/2006

06-028 Review of Administrative Task Orders for Iraq Reconstruction Contracts 10/23/2006

06-038 Unclassified Summary of SIGIR's Review of Efforts To Increase Iraq's Capability To Protect Its Energy Infrastructure 9/27/2006

06-037 Interim Audit Report on Improper Obligations Using the Iraq Relief and Reconstruction Fund (IRRF 2) 9/22/2006

06-026 Review of the U.S. Agency for International Development's Management of the Basrah Children's Hospital Project 7/31/2006

06-025 Review of the Medical Equipment Purchased for the Primary Healthcare Centers Associated with Parsons Global Services, Inc., Contract Number W914NS-04-D-0006 7/28/2006

06-023 Changes in Iraq Relief and Reconstruction Fund Program Activities, January through March 2006 7/28/2006

06-021 Joint Survey of the U.S. Embassy-Iraq's Anticorruption Program 7/28/2006

06-020 Review of the Advanced First Responder Network 7/28/2006

06-019 Review of the Use of Definitization Requirements for Contracts Supporting Reconstruction in Iraq 7/28/2006

06-017 Transition of Iraq Relief and Reconstruction Fund Projects to the Iraqi Government 7/28/2006

06-014 Review of Efforts To Increase Iraq's Capability To Protect Its Energy Infrastructure (Classified) 7/27/2006

06-024 Joint Cash Count: Iraq National Weapons Card Program 7/26/2006

06-018 Survey of the Status of Funding for Iraq Programs Allocated to the Department of State's Bureau of International Narcotics and Law Enforcement Affairs as of December 31, 2005 7/1/2006

06-011 Management of the Primary Healthcare Centers Construction Projects 4/29/2006

06-007 U.S. Agency for International Development: Management of the Transfer of Iraq Relief and Reconstruction Fund Projects to the Iraqi Government 4/29/2006

06-006 Multi-National Security Transition Command-Iraq Management of the Transfer of Iraq Relief and Reconstruction Fund Projects to the Iraqi Government 4/29/2006

06-015 Iraqi Armed Forces Seized Assets Fund: Review of Contracts and Financial Documents 4/28/2006

06-013 Briefing to the International Advisory and Monitoring Board for Iraq: Management Controls over the Development Fund for Iraq 4/28/2006

06-012 Development Fund for Iraq Cash Accountability Review: Joint Area Support Group-Central/Falluja 4/28/2006

06-010 Review of the Multi-National Security Transition Command-Iraq Reconciliation of the Iraqi Armed Forces Seized Assets Fund 4/28/2006

06-009 Review of Task Force Shield Programs 4/28/2006

06-008 Development Fund for Iraq Cash Accountability Review: Joint Area Support Group-Central 4/28/2006

06-005 Follow-up on Recommendations Made in SIGIR Audit Reports Related to Management and Control of the Development Fund for Iraq 4/28/2006

06-004 Changes in Iraq Relief and Reconstruction Fund Program Activities, October through December 2005 4/28/2006

06-003 Review of Data Entry and General Controls in the Collecting and Reporting of the Iraq Relief and Reconstruction Fund 4/28/2006

06-001 Management of Iraq Relief and Reconstruction Fund Program: The Evolution of the Iraq Reconstruction Management System 4/24/2006

06-016 Interim Audit Report on the Review of the Equipment Purchased for Primary Healthcare Centers Associated with Parsons Global Services, Contract Number W914NS-04-D-0006 4/4/2006

06-002 Prompt Payment Act: Analysis of Expenditures Made from the Iraq Relief and Reconstruction Fund 2/3/2006

05-027 Methodologies for Reporting Cost-To-Complete Estimates 1/27/2006

05-026 Fact Sheet on the Use of the $50 Million Appropriation To Support the Management and Reporting of the Iraq Relief and Reconstruction Fund 1/27/2006

05-029 Challenges Faced in Carrying Out Iraq Relief and Reconstruction Fund Activities 1/26/2006

05-028 GRD-PCO Management of the Transfer of IRRF-funded Assets to the Iraqi Government 1/24/2006

05-025 Management of the Commander's Emergency Response Program for Fiscal Year 2005 1/23/2006

05-024 Management of the Mansuria Electrical Reconstruction Project 1/23/2006

05-023 Management of Rapid Regional Response Program Contracts in South- Central Iraq 1/23/2006

05-020 Management of the Contracts, Grant, and Micro-purchases Used To Rehabilitate the Kerbala Library 10/26/2005

05-016 Management of the Contracts and Grants Used To Construct and Operate the Babylon Police Academy 10/26/2005

05-017 Award Fee Process for Contractors Involved in Iraq Reconstruction 10/25/2005

05-015 Management of Rapid Regional Response Program Grants in South-Central Iraq 10/25/2005

05-022 Managing Sustainment for Iraq Relief and Reconstruction Fund Programs 10/24/2005

05-021 Management of Iraq Relief and Reconstruction Fund Programs: Cost-to-Complete Estimate Reporting 10/24/2005

05-018 Management of Iraq Relief and Reconstruction Fund Program: Acquisition of Armored Vehicles Purchased Through Contract W914NS-05-M-1189 10/21/2005

05-014 Management of Commanders Emergency Response Program for Fiscal Year 2004 10/13/2005

05-019 Attestation Engagement Concerning the Award of Non-Competitive Contract DACA63-03-D-0005 to Kellogg Brown and Root Services, Inc. 9/30/2005

05-013 Controls over Equipment Acquired by Security Contractors 9/9/2005

05-011 Cost-to-Complete Estimates and Financial Reporting for the Management of the Iraq Relief and Reconstruction Fund 7/26/2005

05-010 Interim Briefing to the Project and Contracting Office-Iraq and the Joint Contracting Command-Iraq on the Audit of the Award Fee Process 7/26/2005

05-012 Policies and Procedures Used for Iraq Relief and Reconstruction Fund Project Management-Construction Quality Assurance 7/22/2005

05-009 Reconciliation of Reporting Differences of the Source of Funds Used on Contracts After June 28, 2004 7/8/2005

05-008 Administration of Contracts Funded by the Development Fund for Iraq 4/30/2005

05-007 Administration of Iraq Relief and Reconstruction Fund Contract Files 4/30/2005

05-006 Control of Cash Provided to South-Central Iraq 4/30/2005

05-005 Compliance with Contract No. W911S0-04-C-0003 Awarded to Aegis Defence Services Limited 4/20/2005

05-004 Oversight of Funds Provided to Iraqi Ministries through the National Budget Process 1/30/2005

05-003 Task Order 0044 of the Logistics Civilian Augmentation Program III Contract 11/23/2004

05-002 Accountability and Control of Materiel Assets of the Coalition Provisional Authority in Kuwait 10/25/2004

05-001 Coalition Provisional Authority Control of Appropriated Funds 10/22/2004

04-009 Coalition Provisional Authority Comptroller Cash Management Controls over the Development Fund for Iraq 7/28/2004

04-008 Coalition Provisional Authority Control Over Seized and Vested Assets 7/28/2004

04-004 Task Orders Awarded by the Air Force Center for Environmental Excellence in Support of the Coalition Provisional Authority 7/28/2004

04-013 Coalition Provisional Authority's Contracting Processes Leading Up to and Including Contract Award 7/27/2004

04-011 Audit of the Accountability and Control of Materiel Assets of the Coalition Provisional Authority in Baghdad 7/26/2004

04-007 Oil for Food Cash Controls for the Office of Project Coordination in Erbil, Iraq 7/26/2004

07-004 Transferring Iraq Relief and Reconstruction Fund Capital Projects to the Government of Iraq 7/25/2004

04-005 Award of Sector Design-Build Construction Contracts 7/23/2004

04-006 Corporate Governance for Contractors Performing Iraq Reconstruction Efforts 7/21/2004

04-003 Federal Deployment Center Forward Operations at the Kuwait Hilton 6/25/2004

04-002 Management of Personnel Assigned to the Coalition Provisional Authority in Baghdad, Iraq 6/25/2004

04-001 Coalition Provisional Authority Coordination of Donated Funds 6/25/2004

Inspections Reports

PA-09-189 Basrah Modern Slaughterhouse 4/27/2010

PA-09-190 Al Hadi Permanent Police Station, Basrah 4/21/2010

PA-09-186 Humer Kwer Health Center, Sulaymaniyah 4/20/2010

PA-09-192 Haditha Dam Perimeter Security 4/13/2010

PA-09-191 Al Qaim 33/11kV Electrical Mobile Substation 4/12/2010

PA-09-188 Thi Qar Bee Farm 4/1/2010

PA-09-172 Abu Ghraib Dairy 1/15/2010

PA-09-168 Renovation of the Tomb of the Unknown Soldier, Baghdad 1/14/2010

PA-09-183 Hammam Al Alil Regional Training Center, Mosul 1/13/2010

PA-09-173 Rabeaa Point of Entry Screening Facility 1/11/2010

PA-09-174 Hammam Al Alil Division Training Center, Mosul 1/7/2010

PA-09-177 Renovate and Expand Chamchamal Correctional Facility 10/22/2009

PA-09-178 Orphanage and Senior Citizen Assisted Living Center, Erbil 10/21/2009

PA-08-166 Secure Document Storage Facility, Baghdad 10/20/2009

PA-09-179 Abbatoir (Slaughterhouse) in Qaladze, Sulaymaniyah 10/16/2009

PA-09-182 Al Kasik Location Command 10/16/2009

PA-09-171 Ammana Market Renovation, Majjasim 7/30/2009

PA-08-160 Basrah Children's Hospital 7/28/2009

PA-08-164 4th Brigade, 10th Infantry Division Iraqi Army Headquarters Barracks, Missan 7/20/2009

PA-08-165 & 167 Missan Surgical Hospital, Under the Economic Support Fund, al-Amarah 7/16/2009

PA-09-170 Mujarrah Canal Bridge, Ramadi 7/14/2009

PA-08-162 Roll-On/Roll-Off Berth, Port of Umm Qasr 7/8/2009

PA-08-159 & 169 Basrah Courthouse Construction and Basrah Courthouse Witness Protection Facility 4/22/2009

PA-08-136 Renovation of the Khandek Intermediate School Under the Economic Support Fund Program, Yousefiya 4/21/2009

PA-08-158 Hai Tiseen Primary Healthcare Center, Tameem 4/16/2009

PA-08-140 Rebuilding of the Sagrah School Under the Commander's Emergency Response Program, Anbar 4/15/2009

PA-08-157 Shiqaq Hai MusaIla Primary Healthcare Center, Kirkuk 4/13/2009

PA-08-135 Rehabilitation of the Suroor Elementary School Under the Economic Support Fund, Husseiniya 4/7/2009

PA-08-134 Haditha Primary Health Care Center 1/28/2009

PA-08-153 Ramadi 132-Kilovolt Substation 1/27/2009

PA-08-152 Anbar Rule of Law/Judicial Complex, Ramadi 1/27/2009

PA-08-141 Al lqitadar School, Under the Commander's Emergency Response Program, Anbar 1/26/2009

PA-08-133 Heet Primary Healthcare Center 1/23/2009

PA-08-132 Haditha General Hospital, Under the Economic Support Fund Program 1/23/2009

PA-08-154 to 156 Plumbing Repairs at the Baghdad Police College 1/22/2009

PA-08-143 Sadr City R3 Water Treatment Plant, Baghdad 10/29/2008

PA-08-142 Al Shurhabil School, Under the Commander's Emergency Response Program, Anbar 1/21/2009

PA-08-149 to 151 Al Quds, Al Mualameen, and Al Faoo Schools, Under the Iraq-Commander's Emergency Response Program, Baghdad 10/29/2008

PA-08-144 to 148 Falluja Waste Water Treatment System 10/27/2008

PA-08-138 Kahn Bani Sa'ad Correctional Facility 7/25/2008

PA-08-137 Kirkuk to Baiji Pipeline Exclusion Zone-Phase 3, Kirkuk 7/24/2008

PA-08-139 Summary of Project Assessments Through April 2008 7/24/2008

PA-08-125 Al Kazim Water Supply, Nassiriya 7/23/2008

PA-08-124 Al Shofa Water Facility, Nassiriya 7/23/2008

PA-08-129 Al Ager Water Compact Unit, Nassiriya 7/22/2008

PA-08-127 33-Kilovolt Power Line, Nassiriya 7/22/2008

PA-07-116 Nassriya Water Treatment Plant 4/28/2008

PA-07-118.1 Repair of Al Ghazaliyah G-6 Sewage Lift Station Under the Commander's Emergency Response Program, Baghdad 4/22/2008

PA-08-121 Binaslawa Middle School, Under the Commander's Emergency Response Program, Erbil 4/21/2008

PA-08-120 Sarwaran Primary School, Under the Commander's Emergency Response Program, Erbil 4/21/2008

PA-08-131 Follow-Up on the Nassriya Prison Facility 4/17/2008

PA-08-123 Nassriya Prison Expansion 4/17/2008

PA-08-119 Refurbishment of the Kurdistan Regional Government Ministry of Interior Complex Under the Commander's Emergency Response Program, Erbil 4/17/2008

PA-07-118 Repair of Al Ghazaliyah G-7 Sewage Lift Station Under the Commander's Emergency Response Program, Baghdad 1/25/2008

PA-07-111 Rehabilitation of the Mansour Pump Station Under the Commander's Emergency Response Program, Baghdad 1/24/2008

PA-07-115 Erbil Police Academy, Under the Iraq Security Forces Fund 1/22/2008

PA-07-114 Iraqi Army Facilities, Under the Iraq Security Forces Fund, Diyanah and Debecha 1/17/2008

PA-07-112 Mahalla 824 Sewer Collapse Project, Under the Commander's Emergency Response Program, Baghdad 1/16/2008

PA-07-110 Al Escanddrona School, Under the Commander's Emergency Response Program, Baghdad 1/14/2008

PA-07-105 Relief and Reconstruction Funded Work at Mosul Dam 10/29/2007

PA-07-109 Bartilla Booster Pump Station Repair, Commander's Emergency Response Program, Ninewa 10/23/2007

PA-07-108 Bartilla New Road Paving, Commander's Emergency Response Program, Ninewa 10/23/2007

PA-07-107 Showairrej to Tak Harb Road Paving, Commander's Emergency Response Program, Ninewa 10/22/2007

PA-07-106 Right Bank Drinking Water Treatment Plant Rehabilitation, Commander's Emergency Response Program, Ninewa 10/22/2007

PA-07-101 & 104 Qudas Power Plant Turbine Restoration Project and Qudas Power Plant Expansion Project, Baghdad 10/19/2007

PA-07-099 Iraqi C-130 Base, Baghdad 7/24/2007

PA-07-103 Doura Power Station, Units 5 and 6, Baghdad 7/18/2007

PA-07-102 Ministry of Defense Building, Baghdad 7/17/2007

PA-07-098 Al Rasheed Brigade Set, Baghdad 7/17/2007

PA-07-096 Sadr City Al Qana'at Raw Water Pump Station, Baghdad 7/12/2007

PA-07-097 Baghdad International Airport Power System Enhancement, Baghdad 4/26/2007

PA-06-092 Gaugli-Ashur Police Station, Mosul 4/26/2007

PA-06-090 Iraqi Civil Defense Headquarters, Baghdad 4/26/2007

PA-06-080 Al Basrah Oil Terminal 4/26/2007

PA-06-091 Bab Shams Police Station, Mosul 4/25/2007

PA-06-087 & 088 Tallil Military Base, Camp Ur, Nassiriya 4/25/2007

PA-07-100 West Baghdad International Airport Special Forces Barracks, Baghdad 4/24/2007

PA-06-094 Erbil Maternity and Pediatric Hospital 4/19/2007

PA-06-089 Recruiting (Babil Volunteer) Center, Hilla 4/17/2007

PA-06-078.2 & 079.2 Baghdad Police College 1/29/2007

PA-06-077 402nd Battalion Iraqi Army Headquarters Barracks, Hilla 1/29/2007

PA-06-075 51st Brigade Iraqi Army Barracks, Hilla 1/29/2007

PA-06-074 Waste Water Treatment Plant, Al Kasik Military Training Base 1/29/2007

PA-06-082 to 086 Electrical Substation Sustainment, Basrah 1/10/2007

PA-06-065 Al Alwaiya Children's Hospital, Baghdad 1/10/2007

PA-06-076 Al Hillah Police Firing Range 1/8/2007

PA-06-071 Al Kasik Water Storage Tanks, Al Kasik Military Training Base 1/8/2007

PA-06-070 Dahuk Rehabilitation Center 1/8/2007

PA-06-064 Al Alwaiya Maternity Hospital, Baghdad 1/8/2007

PA-06-059 Thi Qar Village Roads, Segment 3 10/26/2006

PA-06-067 Baghdad Municipal Solid Waste Landfill 10/19/2006

PA-06-069 Al Kut Training Academy 10/18/2006

PA-06-073 Bab Eshtar Substation 11 kV Feeder Cable, Mosul 10/17/2006

PA-06-072 Ninewa Provincial Police Headquarters, Mosul 10/10/2006

PA-06-058 Baghdad Al Karkh Courthouse 10/10/2006

PA-06-078.1 & 079.1 Quick Reaction Report on the Baghdad Police College 9/27/2006

PA-06-066 Critical Care Unit, Ibn Al Bitar Hospital, Baghdad 9/12/2006

PA-06-063 & 05-013 to 05-014 Kirkuk to Baiji Pipeline Project 7/31/2006

PA-06-052 Summary Report-Ground Project Surveys for the Quarter Ended March 31, 2006 7/31/2006

PA-06-057 Baghdad Railway Station Rehabilitation 7/25/2006

PA-06-056 609th Iraqi National Guard Battalion Garrison, Thi Qar 7/25/2006

PA-06-054 Nasiriyah Prison Facility 7/24/2006

PA-06-053 Nasiriyah Fire Station 7/24/2006

PA-06-051 Police Station-Safwan IHP 404, Basrah 7/24/2006

PA-06-049 Basrah International Airport-Terminal and Tower Renovation 7/24/2006

PA-05-028 Umm Qasr Water Scheme 7/24/2006

PA-06-055 Muthanna Village Roads, Segment 4 6/30/2006

PA-06-050 Basrah International Airport-Air Side Power Supply to NAVAIDS and VISAIDS 6/30/2006

PA-06-042 to 046 Primary Health Care Centers Numbered KE-01, KE-02, KE-03, KE-04, and KE-05, Kirkuk 4/25/2006

PA-06-034 Mosul Air Traffic Control Tower and Navigational Aids 4/25/2006

PA-06-041 New 2nd Brigade Base, Kirkuk 4/20/2006

PA-06-048 Summary Report-Ground Project Surveys for the Quarter Ended December 31, 2005 4/13/2006

PA-06-040 Aviation Base Building, Kirkuk 4/12/2006

PA-06-039 Zakho Military Academy 4/12/2006

PA-06-037 Erbil City Transformers 4/12/2006

PA-06-036 Fire Station Construction, Ainkawa 4/12/2006

PA-06-038 Sheile Primary School, Dahuk 4/5/2006

PA-06-035 Ninewa Village Roads, Segment 3 4/5/2006

PA-05-012 Al Fatah River Crossing Tie-Ins 3/15/2006

PA-05-009 Shaft Al Arab Substation, Basrah 3/15/2006

PA-05-004 Al Sumelat Water Network 3/15/2006

PA-05-003 Al Nahrwan Water Supply Project 3/15/2006

PA-05-002 Al Wathba Water Treatment Plant, Baghdad 3/15/2006

PA-05-001 Al Wanda Water Treatment Plant, Baghdad 3/15/2006

PA-05-016 Hilla Maternity and Children's Hospital 3/13/2006

PA-05-020 Seif Sa'ad Police Station, Hilla 3/10/2006

PA-05-019 Babil Railway Station Rehabilitation, Hilla 3/10/2006

PA-05-008 Al Seraji Substation, Basrah 3/10/2006

PA-05-007 Al Kaffat Substation, Basrah 3/10/2006

PA-05-006 Hamdan Substation, Basrah 3/10/2006

PA-05-005 Al Hakamia Substation, Basrah 3/10/2006

PA-05-017 Hai Al Iman Clinic, Hilla 3/7/2006

PA-05-011 Kirkuk Canal Crossing 3/7/2006

PA-05-010 Al Fatah Pipe River Crossing 3/7/2006

PA-05-032 Police Academy, Hilla 1/31/2006

PA-05-029 Project Phoenix, Restore Qudas Gas Turbine Units to Operation, Baghdad 1/31/2006

PA-05-021 to 024 Border Forts Numbered 602, 604, 628, and 634, Sulaymaniyah 1/31/2006

PA-05-033 Kerbala Library 1/30/2006

PA-05-018 Special Weapons and Tactics (SWAT) Police Station, Hilla 1/30/2006

PA-05-027 Security Upgrades for the Port of Umm Qasr 1/27/2006

PA-05-025 Ammunition Supply Point, Umm Qasr 1/27/2006

SA-05-001 Pipeline River Crossing, Al Fatah 1/27/2006

PA-05-015 Al Balda Police Station, Hilla 1/27/2006

PA-05-026 Operation Center & Security Facilities Construction, Umm Qasr 1/26/2006

Lessons Learned Reports

Learning From Iraq: A Final Report From the Special Inspector General for Iraq Reconstruction 3/6/2013

Iraq Reconstruction: Lessons from Auditing U.S.-funded Stabilization and Reconstruction Activities 10/30/2012

Iraq Reconstruction: Lessons Learned from Investigations, 2004-2012 4/30/2012

Iraq Reconstruction: Lessons in Inspections of U.S.-funded Stabilization and Reconstruction Projects 12/21/2011

Applying Iraq's Hard Lessons to the Reform of Stabilization and Reconstruction Operations 2/24/2010

Hard Lessons: The Iraq Reconstruction Experience 1/22/2009

Iraq Reconstruction: Lessons in Program and Project Management 3/21/2007

Iraq Reconstruction: Lessons in Contracting and Procurement 7/21/2006

Iraq Reconstruction: Lessons in Human Capital Management 2/16/2006

Special Reports

Special Report No. 3 Interagency Rebuilding Efforts in Iraq: A Case Study of the Rusafa Political District 2/26/2013

Special Report No. 2 The Human Toll of Reconstruction or Stabilization during Operation Iraqi Freedom 7/27/2012

Special Report No. 1 Reconstruction Leaders' Perceptions of the Commander's Emergency Response Program in Iraq 4/30/2012

Evaluation Report

EV-10-002 Review of Major U.S. Government Infrastructure Projects in Iraq: Nassiriya and Ifraz Water Treatment Plants 10/28/2010

Quarterly Reports

From March 30, 2004, through September 9, 2013, SIGIR issued 37 Quarterly Reports to the United States Congress (including a Final Report) as required under Section 3001 of Public Law 108-106, as amended. The Quarterly Reports published on January 30 and July 30 of each year also satisfied the requirement for a Semiannual Report under the Inspector General Act of 1978, as amended.

Location of SIGIR Records After Closure

SIGIR was established as a temporary oversight agency and will cease operations on September 30, 2013. All of its published reports will continue to be available at www.sigir.mil, which will be hosted by the Government Printing Office and the University of North Texas for an indefinite period. SIGIR's permanent records will be retired to the National Archives and Records Administration (NARA). SIGIR's temporary records will be transferred to the Washington Headquarters Service of the Department of Defense. All FOIA, Privacy Act, or other inquiries should be made to those agencies.

Dated: September 13, 2013.
Stuart W. Bowen, Jr.,
Special Inspection General for Iran Reconstruction.

[FR Doc. 2013-22971 Filed 9-23-13; 8:45 am]

BILLING CODE 3710-8N-M